DEPARTMENT OF LABOR

Employment and Training Administration

[TA-W-55,601]

California Cedar Products Company, Stockton, CA; Notice of Affirmative Determination Regarding Application for Reconsideration

By application of October 13, 2004, a worker requested administrative reconsideration of the Department of Labor's Notice of Negative Determination Regarding Eligibility to Apply for Worker Adjustment Assistance, applicable to workers of the subject firm. The denial was issued on October 4, 2004. The Notice of determination was published in the Federal Register on October 26, 2004 (69 FR 62460). The petition was denied because production ceased at the subject facility more than a year prior to the petition date (August 31, 2004).

The Department carefully reviewed the petitioner's request and has determined that further investigation will be conducted based on new information provided by the company.

Conclusion

After careful review of the application, I conclude that the claim is of sufficient weight to justify reconsideration of the Department of Labor's prior decision. The application is, therefore, granted.

Signed at Washington, DC, this 28th day of October 2004.
Elliott S. Kushner,
Certifying Officer, Division of Trade Adjustment Assistance.

[FR Doc. E4-3134 Filed 11-10-04; 8:45 am]

BILLING CODE 4510-30-P